DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Drug Abuse Warning Network (OMB No. 0930-0078)—Revision

The Drug Abuse Warning Network (DAWN) is an ongoing data system that collects information on drug-related medical emergencies as reported from about 350 hospitals nationwide, and drug-related deaths as reported from 6 states and 135 medical examiners/coroner jurisdictions (ME/C) in 35 metropolitan areas. DAWN provides national and metropolitan estimates of substances involved with drug-related emergency department (ED) visits; disseminates information about substances involved in deaths investigated by participating medical examiners and coroners (ME/Cs); tracks drug abuse patterns, trends, and the emergence of new substances; monitors post-market adverse drug incidents; assesses health hazards associated with the use of illicit, prescription, and over-the-counter drugs; and generates information for national and local drug abuse policy and program planning. DAWN data are used by Federal, State, and local agencies, as well as universities, pharmaceutical companies, and the media.

From 2006 to 2008, DAWN will continue to recruit hospitals in the 13 oversampled metropolitan areas in order to improve the precision of estimates, adding approximately 18 hospitals to the sample. In 2007 and 2008, DAWN plans to recruit approximately 20 more ME/Cs from metropolitan areas that are currently profiled by DAWN, but have incomplete participation. DAWN data are submitted electronically, using eHERS (electronic Hospital Emergency Reporting System) and eMERS (electronic Medical Examiner Reporting System). DAWN proposes that all facilities (EDs and ME/Cs) will start using the revised electronic forms for all events occurring from 1/1/2006 forward. The annual burden estimates are shown below:

Annualized Reporting Burden for DAWN: 2006-2008
Activity | Number of respondents | Estimated number of responses per respondent | Estimated time per response (in minutes) | Gross burden hours | Burden hours where DAWN contractor ¹ conducts data collection | Total adjusted burden
Emergency Departments
Chart review | 350 | 24,400 | 2 | 284,667 | 193,573 | 91,094
eHERS cases | 350 | 756 | 10 | 44,100 | 29,998 | 14,112
ED activity report | 350 | 12 | 2 | 140 | 95 | 45
Subtotal |  |  |  |  |  | 105,251
Medical Examiners/Coroners ²
Death records review | 104 | 1538 | 2.5 | 6,665 | 705 | 5,960
eMERS cases | 104 | 111 | 4 | 770 | 81 | 689
ME/C activity report | 104 | 12 | 2 | 42 | 4 | 38
Subtotal |  |  |  |  |  | 6,687
TOTAL | 454 |  |  |  |  | 111,938
¹ Data collection for 238 EDs and 11 ME/Cs will be conducted by the DAWN contractor. Because there is no burden associated with these Field and Remote Reporters, their hours are deducted from the total burden.
² Some medical examiner/coroner offices report for multiple jurisdictions. For this reason, the number of respondents is smaller than the number of ME/C jurisdictions participating in DAWN.

Written comments and recommendations concerning the proposed information collection should be sent by November 28, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: October 24, 2005.
Anna Marsh,
Director, Office of Program Services.

[FR Doc. 05-21454 Filed 10-26-05; 8:45 am]

BILLING CODE 4162-20-P